DEPARTMENT OF DEFENSE

Department of the Army; Corps of Engineers

Intent To Prepare a Draft Supplemental Environmental Impact Statement (DSEIS) for the Nourishment of 25,000 feet of Beach in Topsail Beach, Pender County, NC

AGENCY: Department of the Army, U.S. Army Corps of Engineers, DoD.

ACTION: Notice of intent.

SUMMARY: The U.S. Army Corps of Engineers (USACE), Wilmington District, Wilmington Regulatory Field Office has received a request for Department of the Army authorization, pursuant to Section 404 of the Clean Water Act and Section 10 of the Rivers and Harbors Act, from the Town of Topsail Beach to conduct a one-time emergency beach fill project to protect oceanfront development and infrastructure until such time that a federally authorized shore protection project can be implemented. At this time, the construction date for the Federal project is uncertain. A Draft General Reevaluation Report—Environmental Impact Statement (GRR-EIS) has been prepared by the USACE and was released for public review and comment in June 2006 (USACE, 2006). Given the current status of the GRR-EIS and the need for Congressional authorization, funding, preparation of plans and specifications, and right-of-way acquisition, the Federal project may not be implemented until Fiscal Year 2010, or possibly later.

ADDRESSES: Copies of comments and questions regarding scoping of the DSEIS may be addressed to: U.S. Army Corps of Engineers, Wilmington District, Regulatory Division. ATTN: File Number SAW-2006-40848-071, Post Office Box 1890, Wilmington, NC 28402-1890.

FOR FURTHER INFORMATION CONTACT: Questions about the proposed action and DSEIS can be directed to Mr. Dave Timpy, Wilmington Regulatory Field Office, telephone: (910) 251-4634.

SUPPLEMENTARY INFORMATION: The Topsail Emergency Beach Nourishment project was placed on Public Notice on December 15, 2006 and a Notice of Intent issued on December 15, 2006 (71 FR 75511). A Scoping Meeting was held on January 16, 2007. Subsequently, another borrow area has been found. Therefore, this Notice of Intent is issued to include another borrow area into the project.

1. Project Description. The fill placement area will occur between Godwin Avenue on the south to a point 2,000 feet northeast of Topsail Beach/Surf City town limits, a total ocean shoreline length of approximately 25,000 feet. The fill would consist of three sections, a 1,000-foot transition on the south beginning at a point opposite Godwin Avenue, a 22,000-foot main fill section that would extend to the Topsail Beach/Surf City town limits, and a 2,000-foot northern transition (Figure 1). The project design will remain consistent with the Federal design and will involve a berm system to be constructed to a height of 7 feet NGVD. An optimum berm width of 50 feet is proposed. The in-place volume of the beach fill has not been determined but could range between 900,000 to 1,250,000 cubic yards. Offshore sand sources are currently being investigated for sediment compatibility with the native beach material. The offshore borrow areas under consideration include all of the areas within the 3-mile North Carolina territorial limit previously identified by the USACE in the GRR-EIS (Borrow Areas A and B), areas lying outside of the USACE identified borrow areas, and an area designated as Borrow Area X located closer to shore (Figure 1). The navigation channel running through Banks Channel from New Topsail Inlet through Topsail Creek and from Topsail Creek parallel to the barrier island to the Atlantic Intracoastal Waterway (Figure 1) was considered as a potential source for the one-time emergency beach fill project but dismissed due to the small volume of material that would be available. The authorized dimensions of the navigation channel are 80 feet wide at 7 feet below mean low water. During normal maintenance operations, between 50,000 and 200,000 cubic yards are removed and deposited on the south end of Topsail Beach. This relatively small volume of maintenance material would fall well below the emergency project requirements. Furthermore, maintenance dredging is currently being performed in Banks Channel with the dredged material being placed on the south end of Topsail Beach. The current maintenance operation would totally deplete the volume of material available for beach disposal for at least the next two years. Accordingly, the navigation channels running behind Topsail Beach will not be given detailed consideration for the emergency project.

The proposed construction timeframe for the emergency beach fill activities will occur in late calendar year 2008 or early calendar year 2009.

Figure 1. Location map showing all investigated sand sources in the vicinity of Topsail Beach, North Carolina.

Beach Fill Surveys & Design. Typical cross-sections of the beach along the Topsail Beach project area will be surveyed. Nearshore profiles will extend seaward to at least the −30-foot NAVD depth contour. The total volume of beach fill to be placed in front of the existing development and infrastructure will be based on an evaluation of erosion of the project area from 2002 through the expected construction date of the Federal project. Additional offshore and inshore data for Hutaff Island will also be obtained along the northern 5,000 feet of the island. This data will be used in the evaluation of possible impacts associated with the removal of sediment from the selected offshore borrow area and for future impact evaluations following project implementation through the use of numerical modeling.

Geotechnical Investigations. The offshore sand search investigations have included bathymetric surveys, sidescan sonar surveys, seismic surveys, cultural resource surveys, vibracore collection and analysis, and ground-truth diver surveys to verify existence or non-existence of hard bottoms. The results of the offshore investigations coupled with the compatibility of the sand resource area and native beach sand will be assessed to define the borrow area. All sediment compatibility assessments will be based on State of North Carolina sediment compatibility standards that went into effect in February 2007.

Environmental Resource Coordination & Permitting. The USACE prepared a General Reevaluation Report—Environmental Impact Statement (GRR-EIS) for the larger Federal shore protection project. The interim (emergency) beach fill project will be subject to Section 10 of the Rivers and Harbors Act, Section 404 of the Clean Water Act and the State Environmental Policy Act (SEPA).

Preliminary coordination with the USACE—Wilmington District resulted in a determination that a Department of the Army Application for an Individual Permit will be needed for project compliance with Sections 10 and 404. Similarly, coordination with the North Carolina Division of Coastal Management (NCDCM) determined that the project would require a State EIS developed in accordance with SEPA; as well as a Major Permit under the Coastal Area Management Act.

2. Proposed Action. The scope of activities for the proposed emergency beach fill project included: (a) Vibracores in the identified borrow area, (b) side scan sonar surveys of the ocean bottom, (c) in-water investigations of potential near shore hard bottom resources identified by the side scan sonar survey, and (d) beach profile surveys. Offshore investigations included bathymetric surveys, sidescan sonar surveys, seismic and cultural resource surveys, as well as vibracore collection and analysis. The results of the offshore investigations coupled with the compatibility of the sand resource area and native beach sand will be assessed to define the borrow area.

3. Issues. There are several potential environmental issues that will be addressed in the DSEIS. Additional issues may be identified during the scoping process. Issues initially identified as potentially significant include:

a. Potential impact to marine biological resources (benthic organisms, passageway for fish and other marine life) and Essential Fish Habitat, particularly Hard Bottoms.

b. Potential impact to threatened and endangered marine mammals, birds, fish, and plants.

c. Potential impacts to water quality.

d. Potential increase in erosion rates to adjacent beaches.

e. Potential impacts to navigation, commercial and recreational.

f. Potential impacts to private and public property.

g. Potential impacts on public health and safety.

h. Potential impacts to recreational and commercial fishing.

i. The compatibility of the material for nourishment.

j. Potential economic impacts.

4. Alternatives. Several alternatives are being considered for the proposed project. These alternatives will be further formulated and developed during the scoping process and an appropriate range of alternatives, including the No Action alternative, will be considered in the Supplemental Draft EIS.

5. Scoping Process. Project Delivery Team meetings will be held to receive comments and assess concerns regarding the appropriate scope and preparation of the DSEIS. Participation in the meeting by federal, state, and local agencies and other interested organizations and persons is encouraged.

The COE will also be consulting with the U.S. Fish and Wildlife Service under the Endangered Species Act and the Fish and Wildlife Coordination Act, and with the National Marine Fisheries Service under the Magnuson-Stevens Act and Endangered Species Act. Additionally, the Supplemental Draft EIS will assess the potential water quality impacts pursuant to Section 401 of the Clean Water Act, and will be coordinated with NCDCM to determine the projects consistency with the Coastal Zone Management Act. The USACE will closely work with NCDCM through the SDEIS to ensure the process complies with all State Environmental Policy Act (SEPA) requirements. It is the USACE and NCDCM's intentions to consolidate both NEPA and SEPA processes to eliminate duplications.

6. Availability of the Draft Supplemental EIS. The DSEIS is expected to be published and circulated in early 2008, and a public hearing will be held after the publication of the DSEIS.

Dated: November 13, 2007.
John E. Pulliam, Jr.,
Colonel, U.S. Army, District Commander.

[FR Doc. E7-22958 Filed 11-23-07; 8:45 am]

BILLING CODE 3710-GN-P